DEPARTMENT OF HEALTH AND HUMAN SERVICES

Administration for Community Living

Agency Information Collection Activities; Proposed Collection; Comment Request; National Survey of Older Americans Act Participants [OMB 0985-0023]

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Extension without Change and the information collection requirements related to the National Survey of Older Americans Act Participants.

DATES: Comments on the collection of information must be submitted electronically by 11:59 p.m. (EST) or postmarked by October 2, 2023.

ADDRESSES: Submit electronic comments on the collection of information to Kristen.Robinson@acl.hhs.gov. Submit written comments on the collection of information to Administration for Community Living, Washington, DC 20201, Attention: Kristen Robinson.

FOR FURTHER INFORMATION CONTACT: Kristen Robinson, Administration for Community Living, Washington, DC 20201, by email at Kristen.Robinson@acl.hhs.gov, or by telephone at 202-795-7428.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document. With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology. The National Survey of Older Americans Act (OAA) Participants information collection includes consumer assessment surveys for the Congregate and Home-delivered meal nutrition programs; Case Management, Homemaker, and Transportation Services; and the National Family Caregiver Support Program. This survey builds on earlier national pilot studies and surveys, as well as performance measurement tools developed by ACL grantees in the Performance Outcomes Measures Project (POMP). Changes identified as a result of these initiatives were incorporated into the last data collection package that was approved by OMB and are included in this proposed extension of a currently approved collection.

This information will be used by ACL to track performance outcome measures; support budget requests; comply with the GPRA Modernization Act of 2010 (GPRMA) reporting requirements; provide national benchmark information; and inform program development and management initiatives.

Copies of the survey instruments and data from previous National Surveys of OAA Participants can be found and queried using the Aging, Independence, and Disability (AGID) Program Data Portal at https://agid.acl.gov/. The proposed data collection tools may be found on the ACL website at https://www.acl.gov/about-acl/public-input.

Estimated Program Burden: ACL estimates the annual burden associated with this collection of information as follows:

Respondent/data collection activity | Number of respondents | Responses per respondent | Hours per response | Annual burden hours
Area Agency on Aging: Respondent selection process | 300 | 1 | 4.0 | 1,200
Service recipients (i.e., Congregate and Home-Delivered Meal nutrition programs, Case Management, Homemaker, Transportation services) + Rotating Module | 4,000 | 1 | 0.75 | 3,000
National Family Caregiver Support Program clients + Rotating Module | 2,000 | 1 | 0.75 | 1,500
Total | 6,300 | 1 | * 0.90 | 5,700
* (weighted mean).

Dated: July 28, 2023.
Alison Barkoff,
Acting Administrator and Assistant Secretary for Aging.

[FR Doc. 2023-16419 Filed 8-1-23; 8:45 am]

BILLING CODE 4154-01-P